DEPARTMENT OF TRANSPORTATION

Federal Aviation Administration

14 CFR Part 39

[Docket No. 2002-CE-38-AD]

RIN 2120-AA64

Airworthiness Directives; Brackett Aircraft Company, Brackett Single Screen Air Filter

AGENCY: Federal Aviation Administration, DOT.

ACTION: Notice of proposed rulemaking (NPRM).

SUMMARY: This document proposes to adopt a new airworthiness directive (AD) that would apply to Brackett Aircraft Company (Brackett) single screen air filter assemblies that are installed on airplanes. This proposed AD would require you to check the Brackett single screen air filter assembly for correct installation. This proposed AD would also require you to install an additional screen, replace the Brackett single screen air filter assembly with a double screen filter, or replace with another approved design filter at a specified time. This proposed AD is the result of several reports of service difficulties of incorrect installation of the air filters. The actions specified by this proposed AD are intended to detect and correct incorrect installation of the air filter, which could result in failure of the air filter. Such failure could lead to engine/turbocharger ingestion of the air filter foam element.

DATES: The Federal Aviation Administration (FAA) must receive any comments on this proposed rule on or before November 26, 2002.

ADDRESSES: Submit comments to FAA, Central Region, Office of the Regional Counsel, Attention: Rules Docket No. 2002-CE-38-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-38-AD” in the subject line. If you send comments electronically as attached electronic files, the files must be formatted in Microsoft Word 97 for Windows or ASCII text.

You may get service information that applies to this proposed AD from Brackett Aircraft Company, 7052 Government Way, Kingman, Arizona 86401; telephone: (928) 757-4009; facsimile: (928) 757-4433. You may also view this information at the Rules Docket at the address above.

FOR FURTHER INFORMATION CONTACT: Roger Pesuit, Aerospace Engineer, FAA, Los Angeles Aircraft Certification Office, 3960 Paramount Boulevard; telephone: (562) 627-5251; facsimile: (562) 627-5210.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-38-AD.” We will date stamp and mail the postcard back to you.

Discussion

What Events Have Caused This Proposed AD?

The FAA has received several reports of service difficulties of incorrect installation of the Brackett single screen air filters on Cessna 206 and 210 series airplanes that incorporate Supplemental Type Certificate (STC) No. SA71GL. A safety recommendation was issued by FAA that recommended corrective action as a result of a fatal accident involving a Cessna Model T210N airplane.

Investigation of this accident revealed that the air filter assembly had been installed with the screen incorrectly positioned on the upstream side of the frame. Incorrect installation of the air filter assembly resulted in portions of the air filter foam element entering the turbocharger compressor inlet.

We determined this to be the cause of the reported power loss. The manufacturer has developed a double screen air filter that precludes incorrect air filter installation.

What Are the Consequences if the Condition Is Not Corrected?

If not detected and corrected, the air filter foam element could be ingested into the engine/turbocharger compressor. This condition could lead to loss of power during a critical phase of flight.

The FAA's Determination and an Explanation of the Provisions of This Proposed AD

What Has FAA Decided?

After examining the circumstances and reviewing all available information related to the incidents described above, we have determined that:

—The unsafe condition referenced in this document exists or could develop on type design aircraft that incorporate a Brackett single screen air filter assembly;

—The Brackett single screen air filter assemblies should be immediately inspected for correct installation and eventually replaced; and

—AD action should be taken in order to correct this unsafe condition.

What Would This Proposed AD Require?

This proposed AD would require you to visually or by touch check the Brackett single screen air filter assembly for correct installation. This proposed AD would also require you to add a second screen, replace the Brackett single screen air filter with a double screen filter, or replace with another approved design filter at a specified time.

Cost Impact

How Many Airplanes Would This Proposed AD Impact?

We estimate that this proposed AD affects 2,000 airplanes in the U.S. registry.

What Would Be the Cost Impact of This Proposed AD on Owners/Operators of the Affected Airplanes?

We estimate the following costs to accomplish the proposed replacements:

Labor cost | Parts cost | Total cost per airplane | Total cost on U.S. operators
1 workhour × $60 = $60 | $44 | $104 | $104 × 2,000 = $208,000

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Brackett Aircraft Company: Docket No. 2002-CE-38-AD.

(a) What airplanes are affected by this AD? This AD affects Brackett single screen air filter assemblies, part number BA-2410, that are installed on, but not limited to, the following aircraft that are certificated in any category and incorporate Supplemental Type Certificate (STC) No. SA71GL:

Cessna model | Serial Nos.
TP206A, TP206B, TP206C, TP206D, TP206E, TU206A, TU206B, TU206C, TU206D, TU206E, TU206F, TU206G and T207A | All serial numbers.
210 | All equipped with air conditioning.
T210F, T210G, T210H, T210J, T210K, T210L, T210M, T210N, 210R, and T210R | All serial numbers.

(b) Who must comply with this AD? Anyone who wishes to operate an aircraft equipped with one of the affected single screen air filters must comply with this AD.

(c) What problem does this AD address? The actions specified by this AD are intended to detect and correct incorrect installation of the air filter, which could result in failure of the air filter. Such failure could lead to engine/turbocharger ingestion of the air filter foam element.

(d) What actions must I accomplish to address this problem? To address this problem, you must accomplish the following:

Actions | Compliance | Procedures
(1) Visually or by touch check the single screen Brackett air filter assembly (part number (P/N) BA-2410) to ensure that it is installed with the screen on the down stream side of the filter assembly. Accomplish the following: (i) Remove both upper engine cowlings. (ii) Open the alternate air access door located on the right side of the engine compartment by applying pressure. (iii) While viewing through the alternate air access door, use an inspection mirror and light to check that the screen is installed on the down stream side of the filter assembly; OR (iv) Partially insert a hand into the open alternate air access door and touch the back of the filter element, feeling for the presence of the screen or absence of the screen. | Within the next 25 hours time in service (TIS) after the effective date of this AD | The owner/operator holding at least a private pilot certificate as authorized by section 43.7 of the Federal Aviation Regulations (14 CFR 43.7) may accomplish the visual or touch check of this AD. Make an entry into the aircraft records showing compliance with these portions of the AD in accordance with section 43.9 of the Federal Aviation Regulations (14 CFR 43.9).
(2) Verify that the BA-2410 air filter assembly has screens on both sides. Install an additional screen P/N 2404-00 on the BA-2410 air filter assembly if it is not already equipped with screens on both sides. Alternatively, replace the single screen Bracket air filter assembly, P/N BA-2410, with an FAA-approved filter that is not Brackett P/N BA-2410 | If the air filter assembly is installed incorrectly: Prior to further flight after the visual or by touch check required by paragraph (d)(1) of this AD. If the air filter is installed correctly: Within the next 100 hours TIS after the effective date of this AD | In accordance with the applicable airplane maintenance instructions. The owner/operator may not accomplish the replacement/modification, unless he/she holds the proper mechanic authorization.
(3) You may accomplish the replacement required by this AD instead of the check specified in paragraph (d)(1) of this AD | Within the next 25 hours TIS after the effective date of this AD | In accordance with the applicable airplane or STC supplied maintenance instructions.
(4) Do not install, on any affected airplane, any single screen Brackett air filter assembly, P/N BA-2410 | As of the effective date of this AD | Not applicable.

Note 1: Corrective action, if required, must be accomplished by appropriately rated maintenance personnel. The owner/operator may not accomplish the replacement/modification, unless he/she holds the proper mechanic authorization.

Note 2: The compliance time of 100 hours TIS for replacement is based on FAA Safety Recommendation, Control Number 02.122, that recommends modifying to a dual screen configuration at 100 hours TIS.

(e) Can I comply with this AD in any other way? You may use an alternative method of compliance or adjust the compliance time if:

(1) Your alternative method of compliance provides an equivalent level of safety; and

(2) The Manager, Los Angeles Aircraft Certification Office (ACO), approves your alternative. Submit your request through an FAA Principal Maintenance Inspector, who may add comments and then send it to the Manager, Los Angeles ACO.

Note 3: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Pesuit, Aerospace Engineer, FAA, Los Angeles Aircraft Certification Office, 3960 Paramount Boulevard; telephone: (562) 627-5251; facsimile: (562) 627-5210.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Brackett Aircraft Company, 7052 Government Way, Kingman, Arizona 86401; telephone: (928) 757-4009; facsimile: (928) 757-4433. You may view these documents at FAA, Central Region, Office of the Regional Counsel, 901 Locust, Room 506, Kansas City, Missouri 64106.

Issued in Kansas City, Missouri, on October 18, 2002.
Michael Gallagher,
Manager, Small Airplane Directorate, Aircraft Certification Service.

[FR Doc. 02-27197 Filed 10-24-02; 8:45 am]

BILLING CODE 4910-13-P